DEPARTMENT OF LABOR

Occupational Safety and Health Administration

[Docket Nos. NRTL1-88, NRTL1-89, NRTL2-90, NRTL3-90, NRTL2-92, NRTL3-92, NRTL1-93, NRTL2-93, NRTL3-93, NRTL4-93, NRTL1-97, NRTL1-98]

Modify Scope of Recognition of NRTLs

AGENCY: Occupational Safety and Health Administration (OSHA), Labor.

ACTION: Notice.

SUMMARY: This notice modifies the scope of recognition of certain Nationally Recognized Testing Laboratories (NRTLs).

EFFECTIVE DATE: September 12, 2001.

FOR FURTHER INFORMATION CONTACT: Bernard Pasquet, Office of Technical Programs and Coordination Activities, NRTL Program, Occupational Safety and Health Administration, U.S. Department of Labor, 200 Constitution Avenue, NW., Room N3653, Washington, DC 20210, or phone (202) 693-2110.

SUPPLEMENTARY INFORMATION: The Occupational Safety and Health Administration (OSHA) hereby gives notice of changes to the scope of recognition of the Nationally Recognized Testing Laboratories (NRTLs) listed below. Specifically, some of the test standards for which OSHA previously recognized each NRTL are no longer “appropriate test standards” primarily because they have been withdrawn or superseded. As a result, we will remove them from the listing of test standards in our informational web page for each NRTL, which detail OSHA's official scope of recognition for the NRTL. These web pages can be accessed at http://www.osha-slc.gov/dts/otpca/nrtl/index.html. In this notice, we list the test standards to be removed for each NRTL below under the heading “Withdrawn or Superseded Standards.” We provide the following information for those who may be unfamiliar with OSHA requirements concerning NRTLs.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

In testing and certifying (i.e., approving) such products, NRTLs must demonstrate that the products conform to “appropriate test standards.” This term is defined under 29 CFR 1910.7(c) and essentially means consensus-based product safety test standards developed and maintained current by U.S.-based standards developing organizations (SDOs). Such test standards are not OSHA standards, which are general requirements that employers must meet, but, individually, specify the safety technical requirements that a particular type of product must meet.

OSHA recognizes each NRTL for a particular scope of recognition, which includes a list of those product safety test standards that the NRTL may use in approving products. As a normal part of its operations, an SDO occasionally withdraws existing test standards or adopts superseding test standards. In such cases, OSHA can no longer consider the withdrawn or superseded standards as “appropriate,” and as a result, the Agency can no longer recognize NRTLs for the standard.

To replace the test standards we are removing, under our policy, the NRTL may request or OSHA can provide recognition for comparable test standards, i.e., other appropriate test standards covering comparable product testing. We list these test standards below for each NRTL under the headings “Comparable Replacement Standards.” In some cases (noted by a double asterisk in the particular heading), OSHA may already recognize the NRTL for the comparable test standard. In such cases, we do not list the replacement test standards below. In other cases, there is no replacement standard or the NRTL did not request one prior to publication of this notice. However, if we receive such a request after publication of this notice and determine the test standard is “comparable,” as described above, OSHA will add it to the NRTL's scope of recognition and therefore to OSHA's informational web page for the NRTL.

Applied Research Laboratories, Inc. (ARL)

[Docket No. NRTL1-97]

Withdrawn or Superseded Standards

ASTM E152 Standard Methods of Fire Tests of Door Assemblies

ANSI Z83.12 Gas Food Service Equipment—Baking and Roasting Ovens

Comparable Replacement Standards (if applicable)

ASTM E2074 Standard Method for Fire Tests of Door Assemblies

ANSI Z83.11 Gas Food Service Equipment—Ranges and Unit Broilers

UL 10A Tin-Clad Fire Doors

UL 10B Fire Tests of Door Assemblies

UL 1598 Luminaries (see Note on UL 1598 below; currently, ARL is recognized for UL 1570, UL 1571, and UL 1572)

Canadian Standards Association (CSA)

[Docket No. NRTL2-92]

Withdrawn or Superseded Standards

ANSI Z21.5 Gas Clothes Dryers

ANSI Z21.10 Gas Water Heaters

ANSI Z21.11 Gas-Fired Room Heaters

ANSI Z21.44 Gas-Fired Gravity and Fan Type Direct Vent Wall Furnaces

ANSI Z21.64 Direct Vent Central Furnaces

ANSI Z83.9 Gas-Fired Duct Furnaces

ANSI Z83.12 Gas Food Service Equipment—Baking and Roasting Ovens

ANSI Z83.13 Gas Food Service Equipment—Deep Fat Fryers

ANSI Z83.14 Gas Food Service Equipment—Counter Appliances

ANSIZ83.15 Gas Food Service Equipment—Kettles, Steam Cookers, and Steam Generators

ANSI Z83.16 Gas-Fired Unvented Commercial and Industrial Heaters

ANSI/UL 114 Electric Office Appliances and Business Equipment

ANSI/UL 133 Wires and Cables With Varnished Cloth Insulation

ANSI/UL 303 Refrigeration and Air-Conditioning Condensing and Compressor Units

ANSI/UL 465 Central Cooling Air Conditioners

ANSI/UL 478 Information-Processing and Business Equipment

ANSI/UL 519 Impedance-Protected Motors

ANSI/UL 543 Electrical Conduit

ANSI/UL 547 Thermal Protectors for Electric Motors

ANSI/UL 559 Heat Pumps

ANSI/UL 560 Electric Home-Laundry Equipment

ANSI/UL 611 Central-Station Burglar-Alarm Systems

ANSI/UL 869 Electrical Service Equipment

ANSI/UL 883 Fan-Coil Units and Room-Fan Heater Units

ANSI/UL 1025 Electric Air Heaters

UL 1092 Process Control Equipment

ANSI/UL 1096 Electric Central Air-Heating Equipment

ANSI/UL 1438 Household Electric Drip-Type Coffee Makers

ANSI/UL 1555 Electric Coin-Operated Clothes-Washing Equipment

ANSI/UL 1556 Electric Coin-Operated Clothes-Drying Equipment

ANSI/UL 1624 Light Industrial and Fixed Electric Tools

ANSI/UL 1663 Electric Hot Tubs, Spas, and Associated Equipment

Comparable Replacement Standards (if applicable)**

ANSI Z21.10.2 Water Heaters—Sidearm Type Water Heaters

ANSI Z21.11.1 Gas-Fired Room Heaters—Volume I—Vented Room Heaters

ANSI Z21.11.2 Gas-Fired Room Heaters—Volume II—Unvented Room Heaters

UL 1598 Luminaries (see Note on UL 1598 below; currently, CSA is recognized for UL 1570, UL 1571, and UL 1572)

Entela, Inc. (ENT)

[Docket No. NRTL2-93]

Withdrawn or Superseded Standards

ANSI/UL 559 Heat Pumps

ANSI/UL 560 Electric Home-Laundry Equipment

ANSI/UL 869 Electrical Service Equipment

ANSI/UL 883 Fan-Coil Units and Room-Fan Heater Units

UL 962 Household and Commercial Furnishing

ANSI/UL 1096 Electric Central Air-Heating Equipment

ANSI/UL 1438 Household Electric Drip-Type Coffee Makers

ANSI/UL 1555 Electric Coin Operated Clothes Washing Equipment

ANSI/UL 1556 Electric Coin Operated Clothes Drying Equipment

Comparable Replacement Standards (if applicable)

UL 1082 Household Electric Coffee Makers and Brewing-Type Appliances

UL 1598 Luminaries (see Note on UL 1598 below; currently, Entela is recognized for UL 1570, UL 1571, and UL 1572)

UL 1995 Heating and Cooling Equipment

UL 2157 Electric Clothes Washing Machines and Extractors

UL 2158 Electric Clothes Dryers

Factory Mutual Research Corporation (FMRC)

[Docket No. NRTL3-93]

Withdrawn or Superseded Standards

ANSI/ISA S12.13.1 Performance Requirements for Combustible Gas Detectors

ANSI S12.15 Hydrogen Sulfide Detection Instruments

ANSI S82.03 Electrical and Electronic Process Measuring and Control

ANSI/UL 1555 Electric Coin-Operated Clothes-Washing Equipment

ANSI/UL 1556 Electric Coin-Operated Clothes-Drying Equipment

Comparable Replacement Standards (if applicable)

UL 2157 Electric Clothes Washing Machines and Extractors

UL 2158 Electric Clothes Dryers

Intertek Testing Services NA, Inc. (ITSNA)

[Docket No. NRTL1-89]

Withdrawn or Superseded Standards

ANSI S12.13 Performance Requirements for Combustible Gas Detectors

ANSI Z21.64 Direct Vent Central Furnaces

ANSI Z83.9 Gas-Fired Duct Furnaces

ANSI Z83.12 Gas Food Service Equipment—Baking and Roasting Ovens

ANSI Z83.13 Gas Food Service Equipment—Deep Fat Fryers

ANSI Z83.14 Gas Food Service Equipment—Counter Appliances

ANSI Z83.15 Gas Food Service Equipment—Kettles, Steam Cookers, and Steam Generators

ANSI Z83.16 Gas-Fired Unvented Commercial and Industrial Heaters

ANSI/UL 114 Electric Office Appliances and Business Equipment

ANSI/UL 303 Refrigeration and Air Conditioning Condensing and Compressor Units

ANSI/UL 465 Central Cooling Air Conditioners

ANSI/UL 478 Information-Processing and Business Equipment

ANSI/UL 519 Impedance-Protected Motors

ANSI/UL 543 Impregnated-Fiber Electrical Conduit

ANSI/UL 547 Thermal Protectors for Electric Motors

ANSI/UL 559 Heat Pumps

ANSI/UL 560 Electric Home-Laundry Equipment

ANSI/UL 869 Electric Service Equipment

ANSI/UL 883 Fan-Coil Units and Room Fan-Heater Units

ANSI/UL 1025 Electric Air Heaters

ANSI/UL 1096 Electric Central Air-Heating Equipment

ANSI/UL 1438 Household Electric Drip-Type Coffee Makers

ANSI/UL 1555 Electric Coin-Operated Clothes-Washing Equipment

ANSI/UL 1556 Electric Coin-Operated Clothes-Drying Equipment

ANSI/UL 1624 Light Industrial and Fixed Electric Tools

Comparable Replacement Standards (if applicable)**

ASTM E2010 Standard Test Method for Positive Pressure Fire Tests of Window Assemblies (OSHA previously recognized ITSNA for ASTM E163, which was superseded by ASTM E2010)

ASTM E2074 Standard Method for Fire Tests of Door Assemblies (OSHA previously recognized ITSNA for ASTM E152, which was superseded by ASTM E2074)

UL 869A Standard for Service Equipment

UL 2111 Overheating Protection for Motors

UL 1598 Luminaries (see Note on UL 1598 below; currently, ITSNA is recognized for UL 1570, UL 1571, and UL 1572)

MET Laboratories, Inc. (MET)

[Docket No. NRTL1-88]

Withdrawn or Superseded Standards

ANSI/UL 114 Electric Office Appliances and Business Equipment

ANSI/UL 465 Central Cooling Air Conditioners

ANSI/UL 478 Information-Processing and Business Equipment

ANSI/UL 559 Heat Pumps

ANSI/UL 869 Electrical Service Equipment

ANSI/UL 883 Fan-Coil Units and Room Fan-Heater Units

ANSI/UL 1025 Electric Air Heaters

Comparable Replacement Standards (if applicable)

UL 869A Standard for Service Equipment

UL 1248 Engine-Generator Assemblies for Use in Recreational Vehicles

UL 1598 Luminaries (see Note on UL 1598 below; currently, MET is recognized for UL 1570 and UL 1571)

National Technical Systems, Inc. (NTS)

[Docket No. NRTL1-98]

Withdrawn or Superseded Standards

ANSI/UL 465 Central Cooling Air Conditioners

Comparable Replacement Standards (if applicable)

UL 1995 Heating and Cooling Equipment

Southwest Research Institute (SWRI)

[Docket No. NRTL3-90]

Withdrawn or Superseded Standards

ASTM E152 Standard Methods of Fire Tests of Door Assemblies

Comparable Replacement Standards (if applicable)

ASTM E2074 Standard Method for Fire Tests of Door Assemblies

SGS U.S. Testing Company, Inc. (SGSUS)

[Docket No. NRTL2-90]

Withdrawn or Superseded Standards

None.

Comparable Replacement Standards (if applicable)

UL 1598 Luminaries (see Note on UL 1598 below; currently, SGSUS is recognized for UL 1571)

TUV Rheinland of North America, Inc. (TUV)

[Docket No. NRTL3-92]

Withdrawn or Superseded Standards

None.

Comparable Replacement Standards (if applicable)

UL 1598 Luminaries (see Note on UL 1598 below; currently, TUV is recognized for UL 1570 and UL 1571)

Underwriters Laboratories Inc. (UL)

[Docket No. NRTL4-93]

Withdrawn or Superseded Standards

ANSI/IEEE C57.13.2 Instrument Transformers—Conformance Test Procedures

ANSI Z21.44 Gas-Fired Gravity and Fan Type Direct Vent Wall Furnaces

ANSI Z21.64 Direct Vent Central Furnaces

ANSI Z83.9 Gas-Fired Duct Furnaces

ANSI Z83.12 Gas Food Service Equipment—Baking and Roasting Ovens

ANSI Z83.13 Gas Food Service Equipment—Deep Fat Fryers

ANSI Z83.14 Gas Food Service Equipment—Counter Appliances

ANSI Z83.15 Gas Food Service Equipment—Kettles, Steam Cookers, and Steam Generators

ANSI Z83.16 Gas-Fired Unvented Commercial and Industrial Heaters

ANSI/UL 303 Refrigeration and Air-Conditioning Condensing and Compressor Units

UL 408 Stationary Medium Pressure Acetylene Generators

UL 409 Stationary Low-Pressure Acetylene Generators

ANSI/UL 465 Central Cooling Air Conditioners

ANSI/UL 519 Impedance-Protected Motors

ANSI/UL 543 Impregnated-Fiber Electrical Conduit

ANSI/UL 547 Thermal Protectors for Electric Motors

ANSI/UL 559 Heat Pumps

ANSI/UL 560 Electric Home-Laundry Equipment

ANSI/UL 611 Central-Station Burglar-Alarm Systems

ANSI/UL 869 Electrical Service Equipment

ANSI/UL 883 Fan-Coil Units and Room-Fan Heater Units

UL 962 Household and Commercial Furnishings

ANSI/UL 1025 Electric Air Heaters

ANSI/UL 1096 Electric Central Air-Heating Equipment

ANSI/UL 1438 Household Electric Drip-Type Coffee Makers

ANSI/UL 1555 Electric Coin-Operated Clothes-Washing Equipment

ANSI/UL 1556 Electric Coin-Operated Clothes-Drying Equipment

ANSI/UL 1624 Light Industrial and Fixed Electric Tools

Comparable Replacement Standards (if applicable) * *

UL 1598 Luminaries (see Note on UL 1598 below; currently, UL is recognized for UL 1570 and UL 1571)

Wyle Laboratories, Inc. (WL)

[Docket No. NRTL1-93]

Withdrawn or Superseded Standards

None.

Comparable Replacement Standards (if applicable)

UL 1598 Luminaries (see Note on UL 1598 below; currently, WL is recognized for UL 1570 and UL 1571)

* * Note: The NRTL has already received recognition for some of the replacement standards.

Note on UL 1598: UL 1598 Luminaries is the superseding test standard for three current UL standards: UL 1570, UL 1571, and UL 1572. Although these three standards have not been withdrawn at the date of this notice, UL 1598 is now in effect. OSHA has received a request for recognition of this new standard. In anticipation of the withdrawal, we are granting this request now for any NRTL recognized for one of the three superseded standards.

In accordance with OSHA policy pertaining to recognition of replacement standards, the Agency only publishes one Federal Register notices to note the changes to the NRTL's scope of recognition. Changes to each NRTL's recognition are limited to those described in this notice. All other terms and conditions of each NRTL's recognition remain the same.

Signed at Washington, D.C. this 27 day of August, 2001.
John L. Henshaw,
Assistant Secretary.

[FR Doc. 01-22828 Filed 9-11-01; 8:45 am]

BILLING CODE 4510-26-P